FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 3, 2016.

A. Federal Reserve Bank of Atlanta (Chapelle Davis, Assistant Vice President) 1000 Peachtree Street NE., Atlanta, Georgia 30309:

1. Gerald O'Neill Norman, Lois Ann Garrard Norman, Deborah Norman Lewis, Gerald O'Neill Norman Jr., Caleb Michael Free, Derek Norman Free, all of Washington, Georgia; and Joyce M. Norman, Dacula, Georgia; to retain shares of Washington Wilkes Holding Company, and thereby retain shares of F & M Bank, both of Washington, Georgia.

B. Federal Reserve Bank of Chicago (Colette A. Fried, Assistant Vice President) 230 South LaSalle Street, Chicago, Illinois 60690-1414:

1. Mr. James J. Dolan, Naples, Florida as an individual and as trustee of Royston Road Trust and JJD 2012 Family Trust; and SAMAC, LLC, as a group acting in concert; to acquire shares of Northwest Bancorporation of Illinois, and thereby indirectly acquire control of First Bank and Trust Company of Illinois, both in Palatine, Illinois.

C. Federal Reserve Bank of St. Louis (Yvonne Sparks, Community Development Officer) P.O. Box 442, St. Louis, Missouri 63166-2034:

1. Notice by Janice A. Hendrix, Horatio, Arkansas, as trustee of the Janice A. Hendrix Revocable Trust, and as a member of the Hendrix family control group; to retain voting shares of Pioneer Bancshares, Inc. of Horatio, Arkansas, and thereby retain shares of Horatio State Bank, both of Horatio, Arkansas.

Board of Governors of the Federal Reserve System, January 14, 2016.
Michael J. Lewandowski,
Associate Secretary of the Board.

[FR Doc. 2016-00973 Filed 1-19-16; 8:45 am]

BILLING CODE 6210-01-P